DEPARTMENT OF THE TREASURY

Agency Information Collection Activities; Submission for OMB Review; Comment Request; Multiple FinCEN Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before October 29, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Financial Crimes Enforcement Network (FinCEN)

Title: Registration of Money Services Business.

OMB Control Number: 1506-0013.

Type of Review: Extension without change of a currently approved collection.

Description: Money services businesses file form 107 to register with the Department of the Treasury pursuant to 31 U.S.C. 5330 and 31 CFR 1022.380. The information on the form is used by criminal investigators, and taxation and regulatory enforcement authorities, during the course of investigations involving financial crimes.

Form: FinCEN Form 107.

Affected Public: Businesses or other for-profits.

Estimated Number of Respondents: 42,000.

Frequency of Response: Every two years.

Estimated Total Number of Annual Responses: 42,000.

Estimated Time per Response: 1 hour.

Estimated Total Annual Burden Hours: 42,000.

Title: Suspicious Activity Report by Money Services Business.

OMB Control Number: 1506-0015.

Type of Review: Extension without change of a currently approved collection.

Description: In accordance with 31 CFR 1022.320, covered financial institutions are required to report suspicious activity and maintain the records for a period of five years. Covered financial institutions may satisfy these requirements by using their internal records management system.

Form: FinCEN Form 111.

Affected Public: Businesses or other for-profits.

Estimated Number of Respondents: 1.

Frequency of Response: Annually.

Estimated Total Number of Annual Responses: 1.

Estimated Time per Response: 1 hour.

Estimated Total Annual Burden Hours: 1.

Title: Anti-Money Laundering Programs for Insurance Companies and Non-bank Residential Mortgage Lenders and Originators.

OMB Control Number: 1506-0035.

Type of Review: Extension without change of a currently approved collection.

Description: Regulations at 31 CFR 1025.210 and 1029.210 require insurance companies and non-bank residential mortgage lenders and originators to establish and maintain a written anti-money laundering program. A copy of the written program must be maintained for five years.

Form: None.

Affected Public: Businesses or other for-profits.

Estimated Number of Respondents: 32,200.

Frequency of Response: Annually.

Estimated Total Number of Annual Responses: 32,200.

Estimated Time per Response: 1 hour.

Estimated Total Annual Burden Hours: 32,200.

Title: Suspicious Activity Report Filing Requirements for Residential Mortgage Lenders and Originators.

OMB Control Number: 1506-0061.

Type of Review: Extension without change of a currently approved collection.

Description: In accordance with 31 CFR 1029.320, covered financial institutions are required to report suspicious activity and maintain the records for a period of five years. Covered financial institutions may satisfy these requirements by using their internal records management system.

Form: FinCEN Form 111

Affected Public: Businesses or other for-profits.

Estimated Number of Respondents: 1.

Frequency of Response: Annually.

Estimated Total Number of Annual Responses: 1.

Estimated Time per Response: 1 hour.

Estimated Total Annual Burden Hours: 1.

Authority: 44 U.S.C. 3501 et seq.

Dated: September 24, 2018.
Spencer W. Clark,
Treasury PRA Clearance Officer.

[FR Doc. 2018-21077 Filed 9-26-18; 8:45 am]

BILLING CODE 4810-02-P